DEPARTMENT OF ENERGY

Federal Energy Regulatory Commission

[Docket No. CP21-31-000]

Texas Eastern Transmission, LP; Notice of Waiver Period for Water Quality Certification Application

On January 15, 2021, Texas Eastern Transmission, LP submitted to the Federal Energy Regulatory Commission (Commission) a copy of its application for a Clean Water Act section 401(a)(1) water quality certification filed with the Pennsylvania Department of Environmental Protection, in conjunction with the above captioned project. Pursuant to 40 CFR 121.6, we hereby notify the Pennsylvania Department of Environmental Protection of the following:

Date of Receipt of the Certification Request: November 16, 2020.

Reasonable Period of Time to Act on the Certification Request: One year.

Date Waiver Occurs for Failure to Act: November 16, 2021.

If the Pennsylvania Department of Environmental Protection fails or refuses to act on the water quality certification request by the above waiver date, then the agency certifying authority is deemed waived pursuant to section 401(a)(1) of the Clean Water Act, 33 U.S.C. 1341(a)(1).

Dated: February 2, 2021.
Nathaniel J. Davis, Sr.,
Deputy Secretary.

[FR Doc. 2021-02504 Filed 2-5-21; 8:45 am]

BILLING CODE 6717-01-P